FEDERAL MARITIME COMMISSION

Security for the Protection of the Public Financial Responsibility To Meet Liability Incurrred for Death or Injury to Passengers or Other Persons on Voyages; Notice of Issuance of Certificate (Casualty)

Notice is hereby given that the following have been issued a Certificate of Financial Responsibility to Meet Liability Incurred for Death or Injury to Passengers or Other Persons on Voyages pursuant to the provisions of Section 2, Public Law 89-777 (46 App. U.S.C. 817(d)) and the Federal Maritime Commission's implementing regulations at 46 CFR Part 540, as amended:

Ambassadors International, Inc.; Ambassadors Cruise Group, LLC d/b/a Majestic America Line, DQSC Operations, LLC d/b/a Delta Queen Steamboat Company; American West Steamboat Company LLC d/b/a American West Steamboat Company; DQ Boat, LLC; AQ Boat, LLC; MQ Boat, LLC; EN Boat LLC; and QW Boat Company LLC, 1071 Camelback Street, Newport Beach, CA 92660.

Vessels: AMERICAN QUEEN, DELTA QUEEN, MISSISSIPPI QUEEN, EMPRESS OF THE NORTH, QUEEN OF THE WEST, COLUMBIA QUEEN.

Carnival Corporation (d/b/a Carnival Cruise Lines), MSRM 820N, 3655 NW 87 Avenue, Miami, FL 33178.

Vessel: CARNIVAL FREEDOM.

C.I.C. Classic International Cruises S.A. and Arcalia Shipping Co. Ltd., 5-Piso, Avenida 24 De Julho 126, Lisboa Portugal 1530-346.

Vessel: ATHENA.

Corporation Ferries Del Caribe, Inc. d/b/a Ferries Del Caribe Calle Concordia #249, 2nd Floor, Mayaguez, Puerto Rico 00680 6448.

Vessel: CARIBBEAN EXPRESS.

MSC Crociere S. P. A. d/b/a MSC Cruises, Burnous Investment Corporation Panama, and Cruises International S.A., 250 Moonachie Road, Moonachie, NJ 07074.

Vessel: LIRICA.

MSC Crociere S.A. d/b/a MSC Cruises, Lycoper Holdings Inc. Panama, and Cruises International S.A., 250 Moonachie Road, Moonachie, NJ 07074.

Vessel: OPERA.

NCL (Bahamas) Ltd. d/b/a NCL, 7665 Corporate Center Drive, Miami, FL 33126.

Vessel: NORWEGIAN PEARL.

Regatta Acquisition, LLC., Oceania Cruises, Inc. And V.Ships Leisure S.A.M., 8300 NW 33rd Street, Miami, FL 33122.

Vessel: REGATTA.

Regent Seven Sea Cruises, Inc. and Celtic Pacific (UK) Two Limited, 1000 Corporate Drive, Suite 500, Fort Lauderdale, FL 33334.

Vessel: SEVEN SEAS NAVIGATOR.

Dated: March 2, 2007.
Bryant L. VanBrakle,
Secretary.

[FR Doc. E7-4105 Filed 3-7-07; 8:45 am]

BILLING CODE 6730-01-P